DEPARTMENT OF HOMELAND SECURITY

Federal Emergency Management Agency

[Docket ID FEMA-2023-0002; Internal Agency Docket No. FEMA-B-2395]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Connecticut: Middlesex | Town of Old Saybrook (23-01-0694P). | Carl P. Fortuna Jr., First Selectman, Town of Old Saybrook Board of Selectmen, 302 Main Street, Old Saybrook, CT 06475. | Planning Department, 302 Main Street, Old Saybrook, CT 06475. | https://msc.fema.gov/portal/advanceSearch. | Feb. 23, 2024 | 090069
District of Columbia: Washington DC | District of Columbia (23-03-0624P). | The Honorable Muriel Bowser, Mayor, District of Columbia, 1350 Pennsylvania Avenue Northwest, Washington DC 20004. | Department of Energy and Environment, 1200 1st Street Northeast, 5th Floor, Washington DC 20002. | https://msc.fema.gov/portal/advanceSearch. | Mar. 4, 2024 | 110001
Florida:
Hillsborough | City of Tampa (23-04-4679P). | The Honorable Jane Castor, Mayor, City of Tampa, 306 East Jackson Street, Tampa, FL 33602. | Building Department, 1400 North Boulevard, Tampa, FL 33607. | https://msc.fema.gov/portal/advanceSearch. | Feb. 20, 2024 | 120114
Lee | City of Fort Myers (23-04-3031P). | Marty K. Lawing, Manager, City of Fort Myers, 2200 2nd Street, Fort Myers, FL 33901. | Building Department, 1825 Hendry Street, 2200 2nd Street, Fort Myers, FL 33901. | https://msc.fema.gov/portal/advanceSearch. | Mar. 8, 2024 | 125106
Monroe | City of Marathon (23-04-5034P). | The Honorable Luis Gonzalez, Mayor, City of Marathon, 9805 Overseas Highway, Marathon, FL 33050. | City Hall, 9805 Overseas Highway, Marathon, FL 33050. | https://msc.fema.gov/portal/advanceSearch. | Feb. 5, 2024 | 120681
Monroe | Unincorporated areas of Monroe County (23-04-5520P). | The Honorable Craig Cates, Mayor, Monroe County Board of Commissioners, 500 Whitehead Street, Suite 102, Key West, FL 33040. | Monroe County Building Department, 2798 Overseas Highway, Suite 300, Marathon, FL 33050. | https://msc.fema.gov/portal/advanceSearch. | Mar. 1, 2024 | 125129
Monroe | Village of Islamorada (23-04-5499P). | The Honorable Joseph Buddy Pinder III, Mayor, Village of Islamorada, 86800 Overseas Highway, Islamorada, FL 33036. | Building Department, 86800 Overseas Highway, Islamorada, FL 33036. | https://msc.fema.gov/portal/advanceSearch. | Mar. 1, 2024 | 120424
Osceola | Unincorporated areas of Osceola County (23-04-0702P). | Don Fisher, Manager, Osceola County, 1 Courthouse Square, Suite 4700, Kissimmee, FL 34741. | Osceola County Public Works Department, 1 Courthouse Square, Suite 3100, Kissimmee, FL 34741. | https://msc.fema.gov/portal/advanceSearch. | Mar. 1, 2024 | 120189
Polk | Unincorporated areas of Polk County (23-04-2443P). | Bill Beasley, Manager, Polk County, 330 West Church Street, Bartow, FL 33830. | Polk County Land Development Division, 330 West Church Street, Bartow, FL 33830. | https://msc.fema.gov/portal/advanceSearch. | Feb. 1, 2024 | 120261
Georgia: Fannin | City of Blue Ridge (22-04-4037P). | The Honorable Rhonda Haight, Mayor, City of Blue Ridge, 480 West 1st Street, Blue Ridge, GA 30513. | City Hall, 480 West 1st Street, Blue Ridge, GA 30513. | https://msc.fema.gov/portal/advanceSearch. | Feb. 22, 2024 | 130445
Massachusetts: Essex | City of Gloucester (22-01-0881P). | The Honorable Greg Verga, Mayor, City of Gloucester, 9 Dale Avenue, Gloucester, MA 01930. | City Hall, 3 Pond Road, 2nd Floor, Gloucester, MA 01930. | https://msc.fema.gov/portal/advanceSearch. | Feb. 2, 2024 | 250082
Nevada:
Clark | City of Henderson (23-09-0536P). | The Honorable Michelle Romero, Mayor, City of Henderson, 240 South Water Street, Henderson, NV 89015. | City Hall, 240 South Water Street, Henderson, NV 89015. | https://msc.fema.gov/portal/advanceSearch. | Mar. 8, 2024 | 320005
Clark | Unincorporated areas of Clark County (23-09-0536P). | James B. Gibson, Chair, Clark County Board of Commissioners, 500 South Grand Central Parkway, Las Vegas, NV 89155. | Clark County Government Center, 500 South Grand Central Parkway, Las Vegas, NV 89155. | https://msc.fema.gov/portal/advanceSearch. | Mar. 8, 2024 | 320003
Oklahoma:
Tulsa | City of Jenks (23-06-0740P). | The Honorable Cory Box, Mayor, City of Jenks, P.O. Box 2007, Jenks, OK 74037. | City Hall, 211 North Elm Street, Jenks, OK 74037. | https://msc.fema.gov/portal/advanceSearch. | Feb. 15, 2024 | 400209
Tulsa | City of Tulsa (23-06-0740P). | The Honorable G.T. Bynum, Mayor, City of Tulsa, 175 East 2nd Street, Suite 15-87, Tulsa, OK 74103. | City Hall, 175 East 2nd Street, Suite 450, Tulsa, OK 74103. | https://msc.fema.gov/portal/advanceSearch. | Feb. 15, 2024 | 405381
Tulsa | Muscogee (Creek) Nation (23-06-0740P). | David Hill, Principal Chief, Muscogee (Creek) Nation, P.O. Box 580, Okmulgee, OK 74447. | Muscogee (Creek) Nation, 1000 OK-56, Okmulgee, OK 74447. | https://msc.fema.gov/portal/advanceSearch. | Feb. 15, 2024 | 405384
Tennessee:
Wilson | City of Lebanon (22-04-5900P). | The Honorable Rick Bell, Mayor, City of Lebanon, 200 North Castle Heights Avenue, Lebanon, TN 37087. | Engineering Department, 200 North Castle Heights Avenue, Lebanon, TN 37087. | https://msc.fema.gov/portal/advanceSearch. | Feb. 15, 2024 | 470208
Wilson | Unincorporated areas of Wilson County (22-04-5900P). | The Honorable Randall Hutto, Mayor, Wilson County, 228 East Main Street, Lebanon, TN 37087. | Wilson County Engineering Department, 228 East Main Street, Lebanon, TN 37087. | https://msc.fema.gov/portal/advanceSearch. | Feb. 15, 2024 | 470207
Texas:
Bexar, Comal and Kendall | City of Fair Oaks Ranch (21-06-2766P). | Scott M. Huizenga, Interim City Manager, City of Fair Oaks Ranch, 7286 Dietz Elkhorn Road, Fair Oaks Ranch, TX 78015. | Public Works and Engineering Services Department, 7286 Dietz Elkhorn Road, Fair Oaks Ranch, TX 78015. | https://msc.fema.gov/portal/advanceSearch. | Feb. 12, 2024 | 481644
Dallas | City of Cedar Hill (23-06-1951P). | The Honorable Stephen Mason, Mayor, City of Cedar Hill, 285 Uptown Boulevard Cedar Hill, TX 75104. | City Hall, 285 Uptown Boulevard Cedar Hill, TX 75104 | https://msc.fema.gov/portal/advanceSearch. | Feb. 12, 2024 | 480168
Dallas | City of DeSoto (23-06-1951P). | The Honorable Rachel L. Proctor, Mayor, City of DeSoto, 211 East Pleasant Run Road, DeSoto, TX 75115. | Engineering Department, 211 East Pleasant Run Road, DeSoto, TX 75115. | https://msc.fema.gov/portal/advanceSearch. | Feb. 12, 2024 | 480172
Dallas | City of Duncanville (23-06-1951P). | The Honorable Barry L. Gordon, Mayor, City of Duncanville, P.O. Box 380280 Duncanville, TX 75138. | City Hall, 203 East Wheatland Road, Duncanville, TX 75116. | https://msc.fema.gov/portal/advanceSearch. | Feb. 12, 2024 | 480173
Denton | City of Aubrey (23-06-1953P). | The Honorable Chris Rich, Mayor, City of Aubrey, 107 South Main Street, Aubrey, TX 76227. | City Hall, 107 South Main Street, Aubrey, TX 76227. | https://msc.fema.gov/portal/advanceSearch. | Feb. 12, 2024 | 480776
Denton | City of Denton (23-06-0680P). | The Honorable Gerard Hudspeth, Mayor, City of Denton, 215 East McKinney Street, Denton, TX 76201. | Engineering Services Department, 401 North Elm Street, Denton, TX 76201. | https://msc.fema.gov/portal/advanceSearch. | Feb. 2, 2024 | 480194
Denton | Unincorporated areas of Denton County (23-06-1953P). | The Honorable Andy Eads, Denton County Judge, 1 Courthouse Drive, Suite 3100, Denton, TX 76208. | Denton County Development Services Department, 3900 Morse Street, Denton, TX 76208. | https://msc.fema.gov/portal/advanceSearch. | Feb. 12, 2024 | 480774
Hays | Unincorporated areas of Hays County (23-06-0869P). | The Honorable Ruben Becerra, Hays County Judge, 111 East San Antonio Street, Suite 300, San Marcos, TX 78666. | Hays County Development Services Department, 2171 Yarrington Road, Suite 100, Kyle, TX 78640. | https://msc.fema.gov/portal/advanceSearch. | Feb. 1, 2024 | 480321
Johnson | City of Burleson (23-06-0273P). | The Honorable Chris Fletcher, Mayor, City of Burleson, 141 West Renfro Street, Burleson, TX 76028. | City Hall, 141 West Renfro Street, Burleson, TX 76028. | https://msc.fema.gov/portal/advanceSearch. | Feb. 12, 2024 | 485459
Parker | City of Willow Park (23-06-0997P). | Bryan Grimes, Manager, City of Willow Park, 120 El Chico Trail, Suite A, Willow Park, TX 76087. | City Hall, 120 El Chico Trail, Suite A, Willow Park, TX 76087. | https://msc.fema.gov/portal/advanceSearch. | Feb. 14, 2024 | 481164
Parker | Unincorporated areas of Parker County (23-06-0997P). | The Honorable Pat Deen, Parker County Judge, 1 Courthouse Square, Weatherford, TX 76086. | Parker County Courthouse, 1 Courthouse Square, Weatherford, TX 76086. | https://msc.fema.gov/portal/advanceSearch. | Feb. 14, 2024 | 480520
Palo Pinto | City of Mineral Wells (22-06-3015P). | The Honorable Regan Johnson, Mayor, City of Mineral Wells, 115 Southwest 1st Street, Mineral Wells, TX 76067. | City Hall, 115 Southwest 1st Street, Mineral Wells, TX 76067. | https://msc.fema.gov/portal/advanceSearch. | Mar. 4, 2024 | 480517
Tarrant | City of Mansfield (23-06-0544P). | The Honorable Michael Evans, Mayor, City of Mansfield, 1200 East Broad Street, Mansfield, TX 76063. | City Hall, 1200 East Broad Street, Mansfield, TX 76063. | https://msc.fema.gov/portal/advanceSearch. | Mar. 11, 2024 | 480606
Travis | Unincorporated areas of Travis County, (22-06-2280P). | The Honorable Andy Brown, Travis County Judge, P.O. Box 1748, Austin, TX 78767. | Travis County Transportation and Natural Resources Department, 700 Lavaca Street, 5th Floor, Austin, TX 78701. | https://msc.fema.gov/portal/advanceSearch. | Feb. 12, 2024 | 481026
Virginia: Loudoun | Unincorporated areas of Loudoun County (23-03-0390P). | Tim Hemstreet, Loudoun County Administrator, 1 Harrison Street, Southeast, 5th Floor, Leesburg, VA 20175. | Loudoun County Government Center, 1 Harrison Street, Southeast, 3rd Floor, MSC #60, Leesburg, VA 20175. | https://msc.fema.gov/portal/advanceSearch. | Mar. 4, 2024 | 510090

[FR Doc. 2023-27635 Filed 12-14-23; 8:45 am]

BILLING CODE 9110-12-P